DEPARTMENT OF ENERGY

Federal Energy Regulatory Commission

Combined Notice of Filings #1

Take notice that the Commission received the following exempt wholesale generator filings:

Docket Numbers: EG18-121-000.

Applicants: Blue Cloud Wind Energy, LLC.

Description: Notice of Self-Certification of Exempt Wholesale Generator Status for Blue Cloud Wind Energy, LLC.

Filed Date: 8/14/18.

Accession Number: 20180814-5039.

Comments Due: 5 p.m. ET 9/4/18.

Take notice that the Commission received the following electric rate filings:

Docket Numbers: ER18-1410-001.

Applicants: Midcontinent Independent System Operator, Inc.

Description: Tariff Amendment: 2018-08-13_Deficiency Response to Merchant HVDC Filing to be effective 7/19/2018.

Filed Date: 8/13/18.

Accession Number: 20180813-5182.

Comments Due: 5 p.m. ET 9/4/18.

Docket Numbers: ER18-2207-000.

Applicants: Pacific Gas and Electric Company.

Description: § 205(d) Rate Filing: Engineering Agreement for CCSF Potrero Interconnection Project (SA 284) to be effective 8/14/2018.

Filed Date: 8/13/18.

Accession Number: 20180813-5188.

Comments Due: 5 p.m. ET 9/4/18.

Docket Numbers: ER18-2208-000.

Applicants: New England Power Pool Participants Committee.

Description: § 205(d) Rate Filing: 132nd Agreement to be effective 11/1/2018.

Filed Date: 8/14/18.

Accession Number: 20180814-5001.

Comments Due: 5 p.m. ET 9/4/18.

Docket Numbers: ER18-2209-000.

Applicants: PJM Interconnection, L.L.C.

Description: § 205(d) Rate Filing: Corrections to Revisions in ER18-750 Re Long Term Firm Transmission Service Req to be effective 10/15/2018.

Filed Date: 8/14/18.

Accession Number: 20180814-5043.

Comments Due: 5 p.m. ET 9/4/18.

Docket Numbers: ER18-2210-000.

Applicants: MidAmerican Energy Company, Interstate Power and Light Company.

Description: § 205(d) Rate Filing: IPL—MEC Remote LBA Agreement to be effective 10/15/2018.

Filed Date: 8/14/18.

Accession Number: 20180814-5048.

Comments Due: 5 p.m. ET 9/4/18.

Docket Numbers: ER18-2211-000.

Applicants: Southern California Edison Company.

Description: § 205(d) Rate Filing: LGIA Tropico Solar Project SA No. 212 to be effective 10/14/2018.

Filed Date: 8/14/18.

Accession Number: 20180814-5052.

Comments Due: 5 p.m. ET 9/4/18.

Docket Numbers: ER18-2212-000.

Applicants: The Potomac Edison Company, PJM Interconnection, L.L.C.

Description: § 205(d) Rate Filing: Potomac submits Two Borderline Agreements, SA Nos. 5114 and 5115 (IA) to be effective 10/14/2018.

Filed Date: 8/14/18.

Accession Number: 20180814-5088.

Comments Due: 5 p.m. ET 9/4/18.

Docket Numbers: ER18-2213-000.

Applicants: MidAmerican Energy Company.

Description: § 205(d) Rate Filing: Filing of RLBAA with IPL for English Farms to be effective 10/12/2018.

Filed Date: 8/14/18.

Accession Number: 20180814-5099.

Comments Due: 5 p.m. ET 9/4/18.

Docket Numbers: ER18-2214-000.

Applicants: Stryker 22, LLC.

Description: Baseline eTariff Filing: FERC Electric Tariff No. 1 to be effective 8/15/2018.

Filed Date: 8/14/18.

Accession Number: 20180814-5100.

Comments Due: 5 p.m. ET 9/4/18.

Docket Numbers: ER18-2215-000.

Applicants: MidAmerican Energy Company.

Description: § 205(d) Rate Filing: RLBAA with IPL for Upland Prairie to be effective 10/12/2018.

Filed Date: 8/14/18.

Accession Number: 20180814-5101.

Comments Due: 5 p.m. ET 9/4/18.

Docket Numbers: ER18-2216-000.

Applicants: Plumsted 537 LLC.

Description: Baseline eTariff Filing: MBRA Tariff to be effective 8/15/2018.

Filed Date: 8/14/18.

Accession Number: 20180814-5102.

Comments Due: 5 p.m. ET 9/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2018.
Kimberly D. Bose,
Secretary.

[FR Doc. 2018-18001 Filed 8-20-18; 8:45 am]

BILLING CODE 6717-01-P